FEDERAL RETIREMENT THRIFT INVESTMENT BOARD

Privacy Act of 1974; System of Records; Correction

AGENCY: Federal Retirement Thrift Investment Board.

ACTION: Notice of Systems of Records; correction.

SUMMARY: The Federal Retirement Thrift Investment Board (Agency) published a document in the April 14, 1987, Federal Register, 52 FR 12065, pursuant to the Privacy Act of 1974, 5 U.S.C. 552a, as amended, in order to describe its new system of records. This system of records included FRTIB-1. On May 7, 1990, the Agency published a notice making the system of records final. 55 FR 18949. The 1990 publication of FRTIB-1 purported to account for each routine use and to provide justification for each deleted routine use. However, subpart “r” was deleted without justification. Internal Agency documents show that routine use “r” was omitted from the 1990 publication as a result of scrivener's error. Therefore, since this omission was unintentional, routine use “r” has been in effect since the 1987 publication. In order to reform the system of records to the Agency's intent, this notice restores routine use “r” to the 1990 notice and to each subsequent version (FR Doc. 90-10373, FR Doc. 94-12321, FR Doc. 99-23830, FR Doc. E9-887) of FRTIB-1. This deletion was a technical error, and is hereby corrected.

FOR FURTHER INFORMATION CONTACT: Erin F. Graham, (202) 942-1605.

Correction

In the Federal Register of January 16, 2009, in FR Doc. E9-887, on page 3043, restore routine use “r” and redesignate it as paragraph “v” to read as follows:

v. To disclose to an official of another Federal agency information needed in the performance of official duties related to reconciling or reconstructing data files, compiling descriptive statistics, and making analytical studies in support of the function for which the records were collected and maintained.

Dated: March 29, 2012.
Thomas K. Emswiler,
General Counsel.

[FR Doc. 2012-7978 Filed 4-2-12; 8:45 am]

BILLING CODE 6760-01-P